ENVIRONMENTAL PROTECTION AGENCY

40 CFR Part 180

[EPA-HQ-OPP-2006-0766; FRL-9944-87]

Pesticide Tolerance Crop Grouping Program Amendment IV

AGENCY: Environmental Protection Agency (EPA).

ACTION: Final rule.

SUMMARY: This final rule revises the current pesticide tolerance crop grouping regulations, which allow the establishment of tolerances for multiple related crops based on data from a representative set of crops. This rule creates five new crop groups, three new and two revised commodity definitions and revises the regulations on the interaction of crop group tolerances with processed food, meat, milk, and egg tolerances. These revisions will promote greater use of crop groupings for tolerance-setting purposes, both domestically and in countries that export food to the United States. This is the fourth in a series of planned crop group updates.

DATES: This final rule is effective July 5, 2016.

ADDRESSES: The docket for this action, identified by docket identification (ID) number EPA-HQ-OPP-2006-0766, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT:

For general information contact: Ramé Cromwell, Field and External Affairs Division (7506P), Office of Pesticide Programs, Environmental Protection Agency, 1200 Pennsylvania Ave. NW., Washington, DC 20460-0001; telephone number: (703) 308-9068; email address: cromwell.rame@epa.gov.

For technical information contact: Barbara Madden, Registration Division (7505P), Office of Pesticide Programs, Environmental Protection Agency, 1200 Pennsylvania Ave. NW., Washington, DC 20460-001; telephone number: (703) 305-6463; email address: madden.barbara@epa.gov.

SUPPLEMENTARY INFORMATION:

I. Does this action apply to me?

You may be potentially affected by this action if you are an agricultural producer or food manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

II. Background

A. What action is the Agency taking?

This final rule revises EPA's regulations governing crop group tolerances for pesticides. Specifically, this rule creates five new crop groups, three new and two revised commodity definitions, and revises the regulations on the interaction of crop group tolerances with processed food, meat, milk, and egg tolerances. This final rule is the fourth in a series of crop group updates expected to be promulgated in the next several years.

B. What is the agency's authority for taking this action?

This rule is issued under the authority of section 408(e)(1)(C) of the Federal Food, Drug and Cosmetic Act (FFDCA), which authorizes EPA to establish “general procedures and requirements to implement (section 408).” 21 U.S.C. 346a(e)(1)(C). Under FFDCA section 408, EPA establishes tolerances for pesticide chemical residues in or on food, where there is a reasonable certainty that no harm will result from aggregate exposure to the pesticide chemical residue. A tolerance is the maximum permissible residue level established for a pesticide in raw agricultural produce and processed foods. The crop group regulations currently in 40 CFR 180.40 and 180.41 enable the establishment of tolerances for a crop group based on residue data for certain crops that are representative of the group.

III. The Proposed Rule

EPA published a notice of proposed rulemaking in the Federal Register on November 14, 2014 (79 FR 68153) (FRL-9918-40). Written comments were received from seven parties in response to the proposal: Three private citizens, the University of Hawaii, the Hawaii Farm Bureau Federation, the Minor Crop Farmer Alliance, and the Interregional Research Project Number (IR-4).

IV. Response to Comments

In this unit, EPA describes the major provisions of the proposed rule, the comments received on each provision, EPA's responses to those comments, and EPA's determination regarding the final rule.

A. Crop Group 4-16: Leafy Vegetable Group

1. Revise the proposed crop group name. EPA is adopting its proposal to expand “Crop Group 4: Leafy Vegetables (Except Brassica Vegetables) Group” to both add and remove commodities and to restructure the group. EPA revises the name of the new crop group to “Crop Group 4-16: Leafy Vegetable Group.” Although the new crop group was proposed as “Crop Group 4-14: Leafy Vegetable Group”, this change is needed in order to reflect the correct year of establishment, which is 2016. The final rule retains the pre-existing Crop Group 4 as described in Unit VI.

2. Add new commodities. The final rule expands the leafy vegetable crop group from the existing 27 commodities to 62 commodities in Crop Group 4-16: Leafy Vegetable Group.

3. Revise representative commodities for new crop group. The final rule retains the proposed four representative commodities for Crop Group 4-16: Head lettuce, leaf lettuce, mustard greens, and spinach.

EPA received an anonymous comment to make lettuce a separate subgroup under Crop Group 4-16 and adopt other crops as representative crops for Crop Group 4-16. The commenter indicated that lettuce is intolerant of most herbicides and proposed that lettuce be established as a separate subgroup and other crops be adopted as better representative commodities for the crop group. However, the commenter did not provide any additional information or suggest what alternative crop would be more appropriate as the representative crop. To address this comment, EPA reviewed data for all commodities included in the proposed Crop Group 4-16, including the commodities that would be appropriate for inclusion in Leafy Green subgroup 4-16A and Brassica Leafy Greens subgroup 4-16B. EPA has determined that lettuce would continue to be appropriately included in Crop Group 4 with the other vegetables based on similarities in the plant morphology; cultural practices; similar pest problems; the similar edible food portions and lack of livestock feed portions; potential to result in similar dietary exposure to pesticide residues; similarities in geographical locations and processing techniques; and the established tolerances for commodities currently within subgroup 4A (Ref. 1). Similarly, the Agency is including lettuce in subgroup 4-16A based on similarities in plant morphology; cultural practices; pest problems; the edible food portions and lack of livestock feed portions; potential to result in similar dietary exposure to pesticide residues; and similarities in geographical locations and processing techniques; and the established tolerances for commodities currently within subgroup 4A (Ref. 1). EPA expects that all proposed members of the crop subgroup 4-16A will generally have similar residue levels based on these similarities and has determined that it is appropriate to include the proposed commodities, including lettuce, in Crop Group 4-16 and subgroup 4-16A.

In determining the appropriate representative commodities for this crop group and subgroup, the Agency considered which commodities are most likely to contain the highest residues; to be the highest produced and/or consumed; and to be similar in morphology, growth habit, pest problems, and edible portion to the related commodities within a group or subgroup. EPA determined that head lettuce, leaf lettuce, mustard greens, and spinach are the appropriate representatives for the crop group, because these commodities account for >95% of the total leafy vegetable harvested acres reported in the United States Department of Agriculture (USDA) Census of Agriculture and are also the highest consumed commodities on a per capita basis in the group. These commodities have a long regulatory history as being representative commodities for Crop Groups 4 and 5 (Ref. 1).

4. New subgroups. The final rule retains the proposed addition of two subgroups to the revised Crop Group 4-16.

i. Leafy greens subgroup 4-16A. (Representative commodities- Head lettuce, Leaf lettuce, and Spinach). Forty-two commodities are included in this subgroup.

ii. Brassica leafy greens subgroup 4-16B. (Representative commodity- Mustard greens). Twenty commodities are included in this subgroup.

B. Crop Group 5-16: Head and Stem Brassica Vegetable Group

EPA proposed to remove commodities and to restructure existing Crop Group 5, as Brassica (Cole) Leafy Vegetables Crop Group 5-16. EPA received no comments on this proposal and therefore is adopting the proposed changes as final with one minor modification. EPA is revising the name of the new crop group to “Crop Group 5-16: Head and Stem Brassica Vegetable Group.” Although the new crop group was proposed as “Crop Group 5-14: Head and Stem Brassica Vegetable Group”, this change is needed to reflect the correct year of establishment, which is 2016.

1. Revise existing commodities. The final rule revises Crop Group 5-16 to include five commodities.

2. Revise representative commodities. The final rule revises the representative commodities for Crop Group 5-16 by designating Broccoli or Cauliflower, and Cabbage as the representative commodities.

3. Remove subgroups. The final rule adopts the proposal not to include subgroups in Crop Group 5-16.

EPA received no comments on this provision and adopts its proposal without change.

C. New Crop Group 22: Stalk, Stem and Leaf Petiole Group

EPA received no comments on the addition of this new Crop Group and adopts its proposal without change.

1. Commodities. The final rule adopts 19 commodities to the new Crop Group 22.

2. Representative Commodities. The final rule adopts the proposed Asparagus and Celery as representative commodities.

3. New Subgroups. The final rule adopts the proposed two subgroups to the new Crop Group 22.

i. Stalk and stem vegetable subgroup 22A. (Representative commodity-Asparagus). Twelve commodities are included in this subgroup.

ii. Leaf petiole vegetable subgroup 22B. (Representative commodity- Celery). Seven commodities are included in this subgroup.

4. Amendment to Definitions and Interpretations. In conjunction with new Crop Group 22, EPA is adopting two new commodity definitions that were proposed for Fern, edible and Palm hearts to be added to § 180.1(g), as specified in this final rule.

No comments were submitted on this provision, and EPA adopts its proposal without change.

D. New Crop Group 23: Tropical and Subtropical Fruit, Edible Peel Group

EPA received three comments to the proposed Crop Group 23. The Agency received one comment about the proposed representative commodity for Crop subgroup 23A, which is addressed in Unit IV D.2, and another comment about a commodity definition for guava, which is addressed in Unit IV D.4. Additionally, EPA received a comment from IR-4 requesting that Achachairú (Garcinia gardneriana (Planch. & Triana) Zappi) be added to the proposed Crop subgroup 24B. After reviewing the comment and considering available information, EPA determined that it would be appropriate to include Achachairú in Subtropical Fruit, medium to large fruit, edible peel subgroup 23B; this is addressed in Unit IV D.3.

The Agency also received a comment on the name “Tropical and Subtropical” being removed from the proposed subgroups titled “small fruit, edible peel subgroup 23A”, ” medium to large fruit, edible peel subgroup 23B”, and “palm fruit, edible peel subgroup 23C”. According to the commenter, these names could result in misunderstanding of what commodities are included in the adopted Crop Group 23.

EPA agrees with the commenter that removal of the names “Tropical and Subtropical” from the adopted subgroups could result in misunderstandings and has changed the subgroup names as follows: “Tropical and Subtropical, small fruit, edible peel subgroup 23A”; “Tropical and Subtropical, medium to large fruit, edible peel subgroup 23B”; and “Tropical and Subtropical, palm fruit, edible peel subgroup 23C”. EPA is adopting its proposal with these changes to the subgroup names.

1. Commodities. The final rule adopts 109 commodities to the new Crop Group 23.

2. Representative Commodities. The final rule adopts the proposed Olive, Fig, Guava, and Date as representative commodities after consideration of one comment received concerning the representative commodity for Crop subgroup 23A, Olive.

An anonymous commenter provided, in part, the following comment: “Having only a cool, subtropical fruit crop, i.e., olive, as the representative for numerous tropical fruit crops . . . will make conducting residue trials for these crops unlikely since these crops are not adapted to nor grown in cool, Mediterranean-like climates but in tropical regions.” The commenter recommended that the EPA find a different representative commodity for subgroup 23A and suggested that wax jambu or perhaps Costa Rican guava would be good choices. In response, EPA notes that there should not be a need to conduct residue trials for the other crops in the subgroup because the basis for crop grouping is that data for the representative commodity can be used to establish tolerances for the other commodities in the subgroup. Additionally, representative commodities are selected based on commodities most likely to contain the highest residues; to be the highest produced and/or consumed; to be similar in morphology, growth habit, pest problems and edible portion to the related commodities within a group or subgroup; and to have production in the United States. EPA determined olive is the appropriate representative for subgroup 23A for several reasons. First, in general, the smaller the fruit, the larger the ratio of surface area to weight; therefore, pesticide deposits on olives are expected to be higher than on wax jambu or Costa Rican guava. Because of their size, olives are expected to have a higher residue than wax jambu or Costa Rican guava. Second, olives account for most of the harvested U.S. acres for the members of subgroup 23A, whereas (as noted by the commenter) wax jambu and Costa Rican guava are primarily grown outside of the United States. Finally, the commodities in subgroup 23A are similar in fruit surface area, edible portions, and cultural practices.

3. New Subgroups. The final rule adopts the proposed three subgroups to the new Crop Group 23.

i. Tropical and Subtropical, small fruit, edible peel subgroup 23A. (Representative commodity—Olive). Fifty-six commodities are included in this subgroup.

ii. Tropical and Subtropical, medium to large fruit, edible peel subgroup 23B. (Representative commodities—Fig and Guava). Forty-four commodities are included in this subgroup after consideration of one comment received concerning the addition of a commodity.

EPA received a comment from IR-4 requesting that Achachairú (Garcinia gardneriana (Planch. & Triana) Zappi) be added to the proposed Crop subgroup 24B. After reviewing the comment and considering available information, EPA determined that the peel for Achachairú is edible and is used in fruit drinks. Therefore, EPA determined that it would be appropriate to include Achachairú in the Tropical and Subtropical Fruit, medium to large fruit, edible peel subgroup 23B. USDA APHIS indicates Achachairú is already being legally imported into the U.S., and therefore, being a member of the crop group will help avoid tolerance and import issues with this crop.

iii. Tropical and Subtropical, Palm fruit, edible peel subgroup 23C. (Representative commodity—Date). Nine commodities are included in this subgroup.

4. Amendment to Definitions and Interpretations. IR-4 originally petitioned the EPA to develop a new crop definition for guava to include many of the closely related genus (Psidium), species and varieties. EPA did not propose such a definition in the proposed rule and concluded that a guava definition was not necessary because it is one of the proposed representative commodities for crop subgroup 23B, “Tropical and Subtropical, medium to large fruit, edible peel subgroup”. In conjunction with new Crop Group 23, EPA received a comment to the proposed rule from IR-4 that stated, in part: “. . . IR-4 believes that this definition [for guava] is necessary because both fig and guava are required as representative commodities for Crop Subgroup 23B and all of the related guava varieties and subspecies would not be covered except with a subgroup tolerance.”

Upon review of the comment from IR-4, EPA agrees that a commodity definition for guava will be helpful to provide additional information on the closely related species and varieties of guava that are included for the commodity. Therefore, in conjunction with new Crop Group 23 and Crop Subgroup 23B, EPA is adopting a commodity definition for Guava to be added to § 180.1(g).

No additional comments were submitted on this provision, and EPA adopts its proposal with the changes noted in the previous discussion.

E. Crop Group 24: Tropical and Subtropical Fruit, Inedible Peel Group

EPA received several comments to the proposed Crop Group 24, which are individually addressed in this unit.

The Agency received a comment objecting to “Tropical and Subtropical” being removed from the proposed subgroups titled “Small Fruit, inedible peel subgroup 24A”; “medium to large fruit, smooth, inedible peel subgroup 24B”; “medium to large fruit, rough or hairy, inedible peel subgroup 24C”; “Inedible Peel, cactus subgroup 24D”; and “Inedible Peel, vine subgroup 24E”. The commenter stated these names could result in misunderstanding of which commodities are included in the adopted Crop Group 24.

EPA agrees with the commenter that removal of the names “Tropical and Subtropical” from the adopted subgroups as proposed, could result in misunderstanding. For clarity the subgroups will be named as follows: “Tropical and Subtropical, small fruit, inedible peel subgroup 24A”; “Tropical and Subtropical, medium to large fruit, smooth, inedible peel subgroup 24B”; “Tropical and Subtropical, medium to large fruit, rough or hairy, inedible peel subgroup 24C”; “Tropical and Subtropical, inedible peel, cactus subgroup 24D”; and “Tropical and Subtropical, inedible peel, vine subgroup 24E”.

1. Commodities. The final rule adopts 104 commodities to the new Crop Group 24.

2. Representative Commodities. The final rule adopts the proposed Atemoya or Sugar apple; Avocado; Pomegranate or Banana; Dragon fruit; Prickly pear, fruit; Lychee; Passionfruit; and Pineapple as representative commodities.

3. New Subgroups. The final rule adopts the proposed five subgroups to the new Crop Group 24.

i. Tropical and Subtropical, Small fruit, inedible peel subgroup 24A. (Representative commodity—Lychee). Nineteen commodities are included in the subgroup.

EPA received a comment from the University of Hawaii, requesting removal of Longan from subgroup 24C and placing it in Crop subgroup 24A. The request is based on the size and texture of the fruit although it is similar to lychee, the adopted representative commodity for subgroup 24A.

EPA agrees with the commenter to move Longan from Crop subgroup 24C to Crop subgroup 24A. Therefore, nineteen commodities are now in subgroup 24A.

ii. Tropical and Subtropical, medium to large fruit, smooth, inedible peel subgroup 24B. (Representative commodities—Avocado, plus Pomegranate or Banana) Forty-two commodities are included in this subgroup.

iii. Tropical and Subtropical, medium to large fruit, rough or hairy, inedible peel subgroup 24C. (Representative commodities—Pineapple, plus atemoya or sugar apple). 26 commodities are included in this subgroup.

As stated previously, the final rule moves Longan from the proposed Crop subgroup 24C to Crop subgroup 24A. Therefore, there are now 26 commodities included in this subgroup.

iv. Tropical and Subtropical, Inedible peel, cactus subgroup 24D. (Representative commodities—Dragon fruit and Prickly pear fruit). Nine commodities are included in this subgroup.

v. Tropical and Subtropical, Inedible peel, vine subgroup 24E. (Representative commodity—Passionfruit). Eight commodities are included in this subgroup.

No additional comments were submitted on this provision, and EPA adopts its proposal without change.

F. Other Changes

No comments were submitted on the proposed “other changes” provisions, and EPA adopts its proposal without change.

G. Other Comments

EPA received one comment from the Hawaii Farm Bureau Federation requesting that EPA ensure the opportunity for some other orphan crops grown in Hawaii to be listed in future crop groupings scenarios. Those crops of concern are coffee (Coffea arabica), tea (Camellia sinensis), awa/kava (Piper methysticum), moringa (Moringa oleifera), and noni (Morinda citrifolia).

The primary reasons for the on-going crop grouping effort is to include as many orphan crops into groups, as appropriate, to facilitate trade and to provide tools for producers of minor and specialty crops. EPA is making every effort to include all appropriate commodities into crop groups. The crop groups discussed in this document are based on five petitions developed by the International Crop Grouping Consulting Committee (ICGCC) workgroup and submitted to EPA by IR-4. EPA encourages the Hawaii Farm Bureau Federation to participate in the ICGCC to ensure all commodities important to their growers are considered. Additionally, just as with this action, there will be an opportunity to provide comments on any future proposed crop groups.

One commenter disagreed with placing Kei apple (Dovyalis caffra) and Sapote, white (Casimiroa edulis) in Crop Group 24. The commenter believes the edible peel of the fruit should place the fruits in Crop Group 23. EPA does not agree that Crop Group 23 is appropriate for these two commodities. Kei apples are small, petalless, and clustered in the leaf axils. The aromatic fruit is oblate or nearly round and long, with bright yellow, smooth but minutely downy, somewhat tough skin. Aromatic fruit is also mealy, apricot-textured, juicy, and has highly acid flesh. Most people consider the fruit too acidic for eating out-of-hand even when fully ripe. The skin for Sapote, white is thin, papery, smooth, inedible, and covered with a very thin waxy bloom. The skin should be thickly peeled to remove the bitter flesh underneath. Fruit can also be halved and the pulp can be scooped out.

V. The Final Rule

After fully considering all comments, EPA is amending the names of a few commodities, and adopting changes to its proposal as discussed in Unit IV. EPA is otherwise finalizing the rule as proposed, and based on the rationales set forth in the proposed rule.

VI. Implementation

When an existing crop group is amended in a manner that expands or contracts its coverage of commodities, EPA will retain the pre-existing crop group in § 180.41; insert the revised crop group immediately after the pre-existing crop group in § 180.41; and title the revised crop group in a way that clearly differentiates it from the pre-existing crop group.

The revised crop group will retain roughly the same name and number as the pre-existing group, except the number will be followed by a hyphen and the final digits of the year established (e.g., Crop Group 4-16).

EPA will initially retain pre-existing crop groups that have been superseded by revised crop groups. EPA will not establish new tolerances under the pre-existing groups. Further, EPA plans to eventually convert tolerances for any pre-existing crop group to tolerances with coverage under the revised crop group. This conversion will occur through the registration review process and in the course of evaluating new uses for a pesticide registration. EPA requests that petitioners for tolerances address crop grouping in their petitions. For existing petitions for which a Notice of Filing has been published, the Agency will attempt to conform these petitions to this rule.

VII. International Considerations

In the proposed rule, EPA described other related activities involving active participation by its North American Free Trade Agreement partners, Canada's Pest Management Regulatory Agency and the government of Mexico, IR-4, and the Codex Committee on Pesticide Residues. The goals of these activities remain minimizing differences within and among the United States and Codex groups and to develop representative commodities for each group that will be acceptable on an international basis, which in turn could lead to the increased harmonization of tolerances and MRL recommendations.

VIII. References

The following is a listing of the documents that are specifically referenced in this document. The docket includes these documents and other information considered by EPA, including documents that are referenced within the documents that are included in the docket, even if the referenced document is not physically located in the docket. For assistance in locating these other documents, please consult the person listed under FOR FURTHER INFORMATION CONTACT.

1. EPA. Bernard A. Schneider, Ph.D. Selection of Representative Commodities and Processed Commodities. July 24, 2014. Docket ID number EPA-HQ-OPP-2006-0766.

2. EPA. Pesticide Tolerance Crop Grouping Program; Proposed Expansion; Proposed rule. Federal Register May 23, 2007 (77 FR 28920) (FRL-8126-1).

3. EPA. Pesticide Tolerance Crop Grouping Program; Final rule. Federal Register December 7, 2007 (72 FR 69150) (FRL-8343-1).

IX. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was therefore not submitted to the Office of Management and Budget (OMB) for review for review under Executive Orders 12866, October 4, 1993 (58 FR 51735) and 13563, January 21, 2011 (76 FR 3821).

EPA prepared an analysis of the potential costs and benefits associated with the first proposed rule issued in this series of updates (Ref. 2). This analysis, entitled “Economic Analysis Proposed Expansion of Crop Grouping Program,” is available in the docket. Because the costs and benefits of each update to the crop grouping rule are essentially the same, and generally involve reductions in regulatory burdens and costs, EPA believes the May 23, 2007 economic analysis continues to be applicable. This was discussed in Unit V. of the proposed rule for Group IV, and EPA did not receive any comments on the analysis or EPA's findings.

B. Paperwork Reduction Act (PRA)

This action does not impose any new information collection requirements that would require additional review or approval by OMB under the PRA, 44 U.S.C. 3501 et seq. However, this action is expected to reduce paperwork burdens associated with submissions for tolerance related actions. For example, it may reduce the number of residue chemistry studies required to establish a tolerance for a crop within these groups because instead of testing each crop, only the representative crops would need to be tested under a crop grouping scheme.

C. Regulatory Flexibility Act (RFA)

I certify that this action will not have a significant economic impact on a substantial number of small entities under the RFA, 5 U.S.C. 601 et seq. In making this determination, the impact of concern is any significant adverse economic impact on small entities. An agency may certify that a rule will not have a significant economic impact on a substantial number of small entities if the rule relieves regulatory burden, has no net burden or otherwise has a positive economic effect on the small entities subject to the rule.

This action provides regulatory relief and regulatory flexibility. The new crop groups ease the process for an entity to request and for EPA to set pesticide tolerances on greater numbers of crops. Pesticides will be more widely available to growers for use on crops, particularly specialty crops. This action is not expected to have any adverse impact on any entities, regardless of size.

D. Unfunded Mandates Reform Act (UMRA)

This action does not contain an unfunded federal mandate of $100 million or more as described in UMRA, 2 U.S.C. 1531-1538, and does not significantly or uniquely affect small governments. Accordingly, this action is not subject to the requirements of UMRA, 2 U.S.C. 1501 et seq.

E. Executive Order 13132: Federalism

This action does not have federalism implications as specified in Executive Order 13132, August 10, 1999 (64 FR 43255). It will not have substantial direct effects on the states, on the relationship between the national government and the states, or on the distribution of power and responsibilities among the various levels of government. Thus, Executive Order 13132 does not apply to this action.

F. Executive Order 13175: Consultation and Coordination With Indian Tribal Governments

This action does not have tribal implications as specified in Executive Order 13175, November 9, 2000 (65 FR 67249). This action will not have any effect on tribal governments, on the relationship between the Federal Government and the Indian tribes, or on the distribution of power and responsibilities between the Federal Government and Indian tribes. Thus, Executive Order 13175 does not apply to this action.

G. Executive Order 13045: Protection of Children From Environmental Health Risks and Safety Risks

EPA interprets Executive Order 13045, April 23, 1997 (62 FR 19885) as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions That Significantly Affect Energy Supply, Distribution, or Use

This action is not subject to Executive Order 13211, May 22, 2001 (66 FR 28355), because it is not a significant regulatory action under Executive Order 12866.

I. National Technology Transfer and Advancement Act (NTTAA)

This rulemaking does not involve technical standards that would require the consideration of voluntary consensus standards pursuant to NTTAA section 12(d), 15 U.S.C. 272 note.

J. Executive Order 12898: Federal Actions To Address Environmental Justice in Minority Populations and Low-Income Populations

This action does not involve special consideration of environmental justice related issues as specified in Executive Order 12898, February 16, 1994 (59 FR 7629). This action does not address human health or environmental risks or otherwise have any disproportionate high and adverse human health or environmental effects on minority, low-income or indigenous populations.

IX. Congressional Review Act

This action is subject to the CRA, 5 U.S.C. 801 et seq., and EPA will submit a rule report to each House of the Congress and to the Comptroller General of the United States. This action is not a “major rule” as defined by 5 U.S.C. 804(2).

List of Subjects in 40 CFR Part 180

Environmental protection, Administrative practice and procedure, Commodities, Pesticides and pests.

Dated: April 22, 2016.
James Jones,
Assistant Administrator, Office of Chemical Safety and Pollution Prevention.

Therefore, 40 CFR chapter I is amended as follows:

PART 180—[AMENDED]

1. The authority citation for part 180 continues to read as follows:

Authority: 21 U.S.C. 321 (q), 346a and 371.

2. In § 180.1:

i. Revise the entries for “Broccoli” and “Sugar apple” in the table in paragraph (g).

ii. Add in alphabetical order the entries “Fern, edible, fiddlehead”, “Guava”, and “Palm hearts” to the table in paragraph (g).

The additions and revisions read as follows:

§ 180.1 Definitions and interpretations.

* * * * *

(g) * * *

A | B
* * * * * * *
Broccoli | Broccoli, Chinese broccoli (gai lon, white flowering broccoli).
* * * * * * *
Fern, edible, fiddlehead | Fern, edible, fiddlehead including: Black lady fern, Deparia japonica (Thunb.) M. Kato; Bracken fern, Pteridium aquilinum (L.) Kuhn; Broad buckler fern, Dryopteris dilatata (Hoffm.) A. Gray; Cinnamon fern, Osmundastrum cinnamomeum (L.) C. Presl; Lady fern, Athyrium filix-femina (L.) Roth ex Mert.; Leather fern, Acrostichum aureum L.; Mother fern, Diplazium proliferum (Lam.) Thouars; Ostrich fern, Matteuccia struthiopteris (L.) Tod.; Vegetable fern, Diplazium esculentum (Retz.) Sw.; Zenmai fern, Osmuda japonica Thunb.
* * * * * * *
Guava | Guava (Psidium guajava L.); Guava, cattley (Psidium cattleyanum Sabine); Guava, Para (Psidium acutangulum DC.); Guava, purple strawberry (Psidium cattleyanum Sabine var. cattleyanum); Guava, strawberry (Psidium cattleyanum Sabine var. littorale (Raddi) Fosberg); Guava, yellow strawberry (Psidium cattleyanum Sabine var. cattleyanum forma lucidum O. Deg.)
* * * * * * *
Palm hearts | Palm hearts, various species, including: African fan palm, Borassus aethiopum Mart.; Cabbage palm, Euterpe oleracea Mart.; Cabbage palmetto, Sabal palmetto (Walter) Schult. & Schult. f.; Coconut, Cocos nucifera L.; Palmyra palm, Borassus flabellifera L.; Peach Palm, Bactris gasipaes Kunth; Royal palm, Roystonea oleracea (Jacq.) O.F. Cook; Salak palm, Salacca zalacca (Gaertn.) Voss; Saw palmetto, Serenoa repens (W. Bartram) Small; Wine palm, Raphia spp.
* * * * * * *
Sugar apple | Annona squamosa L. and its hybrid atemoya (Annona cherimola Mill X A. squamosa L.) Also includes true custard apple (Annona reticulata L.).
* * * * * * *

* * * * *

3. In § 180.40, revise paragraphs (e) and (f) to read as follows:

§ 180.40 Tolerances for crop groups.

* * * * *

(e) Since a group tolerance reflects maximum residues likely to occur on all individual crops within a group, the proposed or registered patterns of use for all crops in the group or subgroup must be similar before a group tolerance is established. The pattern of use consists of the amount of pesticide applied, the number of times applied, the timing of the first application, the interval between applications, and the interval between the last application and harvest. The pattern of use will also include the type of application; for example, soil or foliar application, or application by ground or aerial equipment. Additionally, since a group tolerance reflects maximum residues likely to occur on all individual foods within a group, food processing practices must be similar for all crops in the group or subgroup if the processing practice has the potential to result in residues in a processed commodity at a higher concentration than the raw agricultural commodity.

(f)(1) General. EPA will not establish a crop group for a pesticide unless all tolerances made necessary by the presence of pesticide residues in the crop group commodities have been issued or are being issued simultaneously with the crop group tolerance. For purposes of paragraph (f)(1):

(i) Necessary tolerances for residues resulting from crop group tolerances include:

(A) Tolerances for processed food, including processed animal feed, to the extent needed under FFDCA section 408(a)(2).

(B) Tolerances for raw commodities not covered by the crop group tolerance that are derivative of commodities in the group.

(C) Tolerances for meat, milk, or egg products that may contain residues as a result of livestock's consumption of animal feed containing pesticide residues to the extent needed under § 180.6(b).

(ii) Notwithstanding the foregoing, a tolerance is not considered necessary for processed food, derivative raw commodities, or meat, milk, and eggs if the precursor raw commodities are grown solely for sale as raw commodities and are completely segregated from commodities grown for the purpose of producing processed foods, derivative raw commodities, and commodities, or fractions thereof, that are used as animal feed.

(2) Processed commodity and related raw commodity crop group tolerances. EPA may establish crop group tolerances for processed commodities or fractions of commodities (e.g., bran and flour from the Cereal Grains Group), including processed fractions used as animal feed (e.g., pomace from the Pome Fruit Group), produced from crops in the crop groups in § 180.41. EPA may establish crop group tolerances for raw commodities or fractions of commodities, including fractions used as animal feed, derived from commodities covered by the crop groups in § 180.41 (e.g., aspirated grain dust associated with the Cereal Grains Group). Crop group tolerances on processed foods and derivative raw commodities may be based on data on representative commodities for associated crop group. Paragraphs (c), (d), (e), (g), and (h) of § 180.40 apply to group tolerances authorized by paragraph (f)(2).

(3) Representative crops. Unless indicated otherwise in §§ 180.40 and 180.41, the processed food and feed forms of the representative crops for a crop group are considered to be representative of the processed food and feed forms and any derivative raw commodities not covered by the crop group, that are produced from any of the raw agricultural commodities covered by the crop group tolerance. Additionally, unless indicated otherwise in §§ 180.40 and 180.41, representative commodities for such crop groups are selected taking into consideration whether their use as animal feed will result in residues in or on meat, milk, and/or eggs at a level representative of the residues that would result from use of the other commodities or byproducts in the crop group as an animal feed.

(4) Data. Processing data on representative crops are required prior to establishment of a group tolerance if the processing of the representative commodity has the potential to result in residues in a processed commodity at a higher concentration than in the representative commodity. Residue data are required on raw commodities derived from the crops in the crop group tolerance but not directly covered by the tolerance. Animal feeding studies with a representative crop are required if the representative crop is used as a significant animal feed.

* * * * *

4. In § 180.41:

i. Revise paragraph (b).

ii. Redesignate paragraphs (c)(6) through (28) as paragraphs (c)(7) through (29), respectively.

iii. Add a new paragraph (c)(6).

iv. Redesignate newly redesignated paragraphs (c)(8) through (29) as paragraphs (c)(9) through (30), respectively.

v. Add a new paragraph (c)(8).

vi. Revise newly redesignated paragraphs (c)(25)(ii), (c)(26)(ii), and (c)(27)(ii) introductory text.

vii. Add paragraphs (c)(31), (32), and (33).

The additions and revisions read as follows:

§ 180.41 Crop group tables.

* * * * *

(b) Commodities not listed are not considered as included in the groups for the purposes of paragraph (b), and individual tolerances must be established. Miscellaneous commodities intentionally not included in any group include globe artichoke, hops, peanut, and water chestnut.

(c) * * *

(6) Crop Group 4-16. Leafy Vegetable Group.

(i) Representative commodities. Head lettuce, leaf lettuce, mustard greens, and spinach.

(ii) Commodities. The following Table 1 lists all commodities included in Crop Group 4-16.

Table 1—Crop Group 4-16: Leafy Vegetable Group
Commodities | Related crop subgroups
Amaranth, Chinese (Amaranthus tricolor L.) | 4-16A
Amaranth, leafy (Amaranthus spp.) | 4-16A
Arugula (Eruca sativa Mill.) | 4-16B
Aster, Indian (Kalimeris indica (L.) Sch. Bip.) | 4-16A
Blackjack (Bidens pilosa L.) | 4-16A
Broccoli, Chinese (Brassica oleracea var. alboglabra (L.H. Bailey) Musil) | 4-16B
Broccoli raab (Brassica ruvo L.H. Bailey) | 4-16B
Cabbage, abyssinian (Brassica carinata A. Braun) | 4-16B
Cabbage, Chinese, bok choy (Brassica rapa subsp. chinensis (L.) Hanelt) | 4-16B
Cabbage, seakale (Brassica oleracea L. var. costata DC.) | 4-16B
Cat's whiskers (Cleome gynandra L.) | 4-16A
Cham-chwi (Doellingeria scabra (Thunb.) Nees) | 4-16A
Cham-na-mul (Pimpinella calycina Maxim) | 4-16A
Chervil, fresh leaves (Anthriscus cerefolium (L.) Hoffm.) | 4-16A
Chipilin (Crotalaria longirostrata Hook & Arn) | 4-16A
Chrysanthemum, garland (Glebionis coronaria (L.) Cass. ex Spach. Glebionis spp.) | 4-16A
Cilantro, fresh leaves (Coriandrum sativum L.) | 4-16A
Collards (Brassica oleracea L. var. viridis L.) | 4-16B
Corn salad (Valerianella spp.) | 4-16A
Cosmos (Cosmos caudatus Kunth) | 4-16A
Cress, garden (Lepidium sativum L.) | 4-16B
Cress, upland (Barbarea vulgaris W.T. Aiton) | 4-16B
Dandelion, leaves (Taraxacum officinale F.H. Wigg. Aggr.) | 4-16A
Dang-gwi, leaves (Angelica gigas Nakai) | 4-16A
Dillweed (Anethum graveolens L.) | 4-16A
Dock (Rumex patientia L.) | 4-16A
Dol-nam-mul (Sedum sarmentosum Bunge) | 4-16A
Ebolo (Crassocephalum crepidioides (Benth.) S. Moore) | 4-16A
Endive (Cichorium endivia L.) | 4-16A
Escarole (Cichorium endivia L.) | 4-16A
Fameflower (Talinum fruticosum (L.) Juss.) | 4-16A
Feather cockscomb (Glinus oppositifolius (L.) Aug. DC.) | 4-16A
Good King Henry (Chenopodium bonus-henricus L.) | 4-16A
Hanover salad (Brassica napus var. pabularia (DC.) Rchb.) | 4-16B
Huauzontle (Chenopodium berlandieri Moq.) | 4-16A
Jute, leaves (Corchorus spp.) | 4-16A
Kale (Brassica oleracea L. var. Sabellica L.) | 4-16B
Lettuce, bitter (Launaea cornuta (Hochst. ex Oliv. & Hiern) C. Jeffrey) | 4-16A
Lettuce, head (Lactuca sativa L.; including Lactuca sativa var. capitata L.) | 4-16A
Lettuce, leaf (Lactuca sativa L.; including Lactuca sativa var. longifolia Lam.; Lactuca sativa var. crispa L.) | 4-16A
Maca, leaves (Lepidium meyenii Walp.) | 4-16B
Mizuna (Brassica rapa L. subsp. nipposinica (L.H. Bailey) Hanelt) | 4-16B
Mustard greens (Brassica juncea subsp., including Brassica juncea (L.) Czern. subsp. integrifolia (H. West) Thell., Brassica juncea (L.) Czern. var. tsatsai (T.L. Mao) Gladis) | 4-16B
Orach (Atriplex hortensis L.) | 4-16A
Parsley, fresh leaves (Petroselinum crispum (Mill.) Fuss; Petroselinum crispum var. neapolitanum Danert) | 4-16A
Plantain, buckthorn (Plantago lanceolata L.) | 4-16A
Primrose, English (Primula vulgaris Huds.) | 4-16A
Purslane, garden (Portulaca oleracea L.) | 4-16A
Purslane, winter (Claytonia perfoliata Donn ex Willd.) | 4-16A
Radicchio (Cichorium intybus L.) | 4-16A
Radish, leaves (Raphanus sativus L. var sativus, including Raphanus sativus L. var. mougri H. W. J. Helm (Raphanus sativus L. var. oleiformis Pers) | 4-16B
Rape greens (Brassica napus L. var. napus, including Brassica rapa subsp. trilocularis (Roxb.) Hanelt; Brassica rapa subsp. dichotoma (Roxb.) Hanelt; Brassica rapa subsp. oleifera Met) | 4-16B
Rocket, wild (Diplotaxis tenuifolia (L.) DC.) | 4-16B
Shepherd's purse (Capsella bursa-pastoris (L.) Medik) | 4-16B
Spinach (Spinacia oleracea L.) | 4-16A
Spinach, Malabar (Basella alba L.) | 4-16A
Spinach, New Zealand (Tetragonia tetragonioides (Pall.) Kuntze) | 4-16A
Spinach, tanier (Xanthosoma brasiliense (Desf.) Engl.) | 4-16A
Swiss chard (Beta vulgaris L. ssp. vulgaris) | 4-16A
Turnip greens (Brassica rapa L. ssp. rapa) | 4-16B
Violet, Chinese, leaves (Asystasia gangetica (L.) T. Anderson) | 4-16A
Watercress (Nasturtium officinale W.T. Aiton) | 4-16B
Cultivars, varieties, and hybrids of these commodities

(iii) Crop subgroups. The following Table 2 identifies the crop subgroups for Crop Group 4-16, specifies the representative commodities for each subgroup, and lists all the commodities included in each subgroup.

Table 2—Crop Group 4-16: Subgroup Listing
Representative commodities | Commodities
Crop Subgroup 4-16A. Leafy greens subgroup
Head lettuce, leaf lettuce, and spinach | Amaranth, Chinese; amaranth, leafy; aster, Indian; blackjack; cat's whiskers; cham-chwi; cham-na-mul; chervil, fresh leaves; chipilin; chrysanthemum, garland; cilantro, fresh leaves; corn salad; cosmos; dandelion, leaves; dang-gwi, leaves; dillweed; dock; dol-nam-mul; ebolo; endive; escarole; fameflower; feather cockscomb; Good King Henry; huauzontle; jute, leaves; lettuce, bitter; lettuce, head; lettuce, leaf; orach; parsley, fresh leaves; plantain, buckhorn; primrose, English; purslane, garden; purslane, winter; radicchio; spinach; spinach, Malabar; spinach, New Zealand; spinach, tanier; Swiss chard; violet, Chinese, leaves; cultivars, varieties, and hybrids of these commodities.
Crop Subgroup 4-16B. Brassica leafy greens subgroup
Mustard greens | Arugula; broccoli, Chinese; broccoli raab; cabbage, abyssinian; cabbage, Chinese, bok choy; cabbage, seakale; collards; cress, garden; cress, upland; hanover salad; kale; maca, leaves; mizuna; mustard greens; radish, leaves; rape greens; rocket, wild; shepherd's purse; turnip greens; watercress; cultivars, varieties, and hybrids of these commodities.

* * * * *

(8) Crop Group 5-16. Brassica Head and Stem Vegetable Group.

(i) Representative commodities. Broccoli or cauliflower and cabbage.

(ii) Commodities. The following List 1 contains all commodities included in Crop Group 5-16.

List 1—Crop Group 5-16: Brassica Head and Stem Vegetable Group
Commodities |
Broccoli (Brassica oleracea L. var. italica Plenck)
Brussels sprouts (Brassica oleracea L. var. gemmifera (DC.) Zenker)
Cabbage (Brassica oleracea L. var. capitata L.)
Cabbage, Chinese, napa (Brassica rapa L. subsp. pekinensis (Lour.) Hanelt)
Cauliflower (Brassica oleracea L. var. capitata L)
Cultivars, varieties, and hybrids of these commodities.

* * * * *

(25) * * *

(ii) Commodities. The commodities included in Crop Group 16 are: Forage, fodder, stover, and straw of all commodities included in the group cereal grains group. EPA may establish separate group tolerances on forage, fodder, hay, stover, or straw, if data on the representative commodities indicate differences in the levels of residues on forage, fodder, stover, or straw.

(26) * * *

(ii) Commodities. The commodities included in Crop Group 17 are: Forage, fodder, stover, and hay of any grass, Gramineae/Poaceae family (either green or cured) except sugarcane and those included in the cereal grains group, that will be fed to or grazed by livestock, all pasture and range grasses and grasses grown for hay or silage. EPA may establish separate group tolerances on forage, fodder, stover, or hay, if data on the representative commodities indicate differences in the levels of residues on forage, fodder, stover, or hay.

(27) * * *

(ii) Commodities. EPA may establish separate group tolerances on forage, fodder, straw, or hay, if data on the representative commodities indicate differences in the levels of residues on forage, fodder, straw, or hay. The following is a list of all the commodities included in Crop Group 18:

* * * * *

(31) Crop Group 22. Stalk, Stem and Leaf Petiole Vegetable Group.

(i) Representative commodities. Asparagus and celery.

(ii) Commodities. The following Table 1 lists all commodities included in Crop Group 22.

Table 1—Crop Group 22: Stalk, Stem and Leaf Petiole Vegetable Group
Commodities | Related crop subgroups
Agave (Agave spp.) | 22A
Aloe vera (Aloe vera (L.) Burm.f.) | 22A
Asparagus (Asparagus officinalis L.) | 22A
Bamboo, shoots (Arundinaria spp.; Bambusa spp., Chimonobambusa spp.; Dendrocalamus spp., Fargesia spp.; Gigantochloa spp., Nastus elatus; Phyllostachys spp.; Thyrsostachys spp.) | 22A
Cardoon (Cynara cardunculus L.) | 22B
Celery (Apium graveolens var. dulce (Mill.) Pers.) | 22B
Celery, Chinese (Apium graveolens L. var. secalinum (Alef.) Mansf.) | 22B
Celtuce (Lactuca sativa var. angustana L.H. Bailey) | 22A
Fennel, Florence, fresh leaves and stalk (Foeniculum vulgare subsp. vulgare var. azoricum (Mill.) Thell.) | 22A
Fern, edible, fiddlehead | 22A
Fuki (Petasites japonicus (Siebold & Zucc.) Maxim.) | 22B
Kale, sea (Crambe maritima L.) | 22A
Kohlrabi (Brassica oleracea L. var gongylodes L.) | 22A
Palm hearts (various species) | 22A
Prickly pear, pads (Opuntia ficus-indica (L.) Mill., Opuntia spp.) | 22A
Prickly pear, Texas, pads (Opuntia engelmannii Salm-Dyck ex Engelm. var. lindheimeri (Engelm.) B.D. Parfitt & Pinkav) | 22A
Rhubarb (Rheum x rhabarbarum L.) | 22B
Udo (Aralia cordata Thunb. ) | 22B
Zuiki (Colocasia gigantea (Blume) Hook. f.) | 22B
Cultivars, varieties, and hybrids of these commodities

(iii) Crop subgroups. The following Table 2 identifies the crop subgroups for Crop Group 22, specifies the representative commodities for each subgroup, and lists all the commodities included in each subgroup.

Table 2—Crop Group 22: Subgroup Listing
Representative commodities | Commodities
Crop Subgroup 22A. Stalk and stem vegetable subgroup
Asparagus | Agave; aloe vera; asparagus; bamboo, shoots; celtuce; fennel, florence, fresh leaves and stalk; fern, edible, fiddlehead; kale, sea; kohlrabi; palm hearts; prickly pear, pads; prickly pear, Texas, pads; cultivars, varieties, and hybrids of these commodities.
Crop Subgroup 22B. Leaf petiole vegetable subgroup
Celery | Cardoon; celery; celery, Chinese; fuki; rhubarb; udo; zuiki; cultivars, varieties, and hybrids of these commodities.

(32) Crop Group 23. Tropical and Subtropical Fruit, Edible Peel Group.

(i) Representative commodities. Date, fig, guava, and olive.

(ii) Commodities. The following Table 1 lists all commodities included in Crop Group 23.

Table 1—Crop Group 23: Tropical and Subtropical Fruit, Edible Peel Group
Commodities | Related crop subgroups
Açaí (Euterpe oleracea Mart.) | 23C
Acerola (Malpighia emarginata DC.) | 23A
Achachairú (Garcinia gardneriana (Planch. & Triana) Zappi) | 23B
African plum (Vitex doniana Sweet) | 23A
Agritos (Berberis trifoliolata Moric.) | 23A
Almondette (Buchanania lanzan Spreng.) | 23A
Ambarella (Spondias dulcis Sol. ex Parkinson) | 23B
Apak palm (Brahea dulcis (Kunth) Mart.) | 23C
Appleberry (Billardiera scandens Sm.) | 23A
Arazá (Eugenia stipitata McVaugh) | 23B
Arbutus berry (Arbutus unedo L.) | 23A
Babaco (Vasconcellea x heilbornii (V.M. Badillo) V.M. Badillo) | 23B
Bacaba palm (Oenocarpus bacaba Mart.) | 23C
Bacaba-de-leque (Oenocarpus distichus Mart.) | 23C
Bayberry, red (Morella rubra Lour.) | 23A
Bignay (Antidesma bunius (L.) Spreng.) | 23A
Bilimbi (Averrhoa bilimbi L.) | 23B
Borojó (Borojoa patinoi Cuatrec.) | 23B
Breadnut (Brosimum alicastrum Sw.) | 23A
Cabeluda (Plinia glomerata (O. Berg) Amshoff) | 23A
Cajou, fruit (Anacardium giganteum Hance ex Engl.) | 23B
Cambucá (Marlierea edulis Nied.) | 23B
Carandas-plum (Carissa edulis Vahl) | 23A
Carob (Ceratonia siliqua L.) | 23B
Cashew apple (Anacardium occidentale L.) | 23B
Ceylon iron wood (Manilkara hexandra (Roxb.) Dubard) | 23A
Ceylon olive (Elaeocarpus serratus L.) | 23A
Cherry-of-the-Rio-Grande (Eugenia aggregata (Vell.) Kiaersk.) | 23A
Chinese olive, black (Canarium tramdenum C.D. Dai & Yakovlev) | 23A
Chinese olive, white (Canarium album (Lour.) Raeusch.) | 23A
Chirauli-nut (Buchanania latifolia Roxb.) | 23A
Ciruela verde (Bunchosia armeniaca (Cav.) DC.) | 23B
Cocoplum (Chrysobalanus icaco L.) | 23A
Date (Phoenix dactylifera L.) | 23C
Davidson's plum (Davidsonia pruriens F. Muell.) | 23B
Desert-date (Balanites aegyptiacus (L.) Delile) | 23A
Doum palm coconut (Hyphaene thebaica (L.) Mart.) | 23C
False sandalwood (Ximenia americana L.) | 23A
Feijoa (Acca sellowiana (O. Berg) Burret) | 23B
Fig (Ficus carica L.) | 23B
Fragrant manjack (Cordia dichotoma G. Forst.) | 23A
Gooseberry, abyssinian (Dovyalis abyssinica (A. Rich.) Warb.) | 23A
Gooseberry, Ceylon (Dovyalis hebecarpa (Gardner) Warb.) | 23A
Gooseberry, Indian (Phyllanthus emblica L.) | 23B
Gooseberry, otaheite (Phyllanthus acidus (L.) Skeels) | 23A
Governor's plum (Flacourtia indica (Burm. F.) Merr.) | 23A
Grumichama (Eugenia brasiliensis Lam) | 23A
Guabiroba (Campomanesia xanthocarpa O. Berg) | 23A
Guava (Psidium guajava L.) | 23B
Guava berry (Myrciaria floribunda (H. West ex Willd.) O. Berg) | 23A
Guava, Brazilian (Psidium guineense Sw.) | 23A
Guava, cattley (Psidium cattleyanum Sabine) | 23B
Guava, Costa Rican (Psidium friedrichsthalianum (O. Berg) Nied.) | 23A
Guava, Para (Psidium acutangulum DC.) | 23B
Guava, purple strawberry (Psidium cattleyanum Sabine var. cattleyanum) | 23B
Guava, strawberry (Psidium cattleyanum Sabine var. littorale (Raddi) Fosberg) | 23B
Guava, yellow strawberry (Psidium cattleyanum Sabine var. cattleyanum forma lucidum O. Deg.) | 23B
Guayabillo (Psidium sartorianum (O. Berg) Nied.) | 23A
Illawarra plum (Podocarpus elatus R. Br. Ex Endl.) | 23A
Imbé (Garcinia livingstonei T. Anderson) | 23B
Imbu (Spondias tuberosa Arruda ex Kost.) | 23B
Indian-plum (Flacourtia jangomas (Lour.). basionym) | 23A
Jaboticaba (Myrciaria cauliflora (Mart.) O. Berg) | 23B
Jamaica-cherry (Muntingia calabura L.) | 23A
Jambolan (Syzygium cumini (L.) Skeels) | 23A
Jelly palm (Butia capitata (Mart.) Becc.) | 23C
Jujube, Indian (Ziziphus mauritiana Lam.) | 23B
Kaffir-plum (Harpephyllum caffrum Bernh. Ex C. Krauss) | 23A
Kakadu plum (Terminalia latipes Benth. subsp. psilocarpa Pedley) | 23A
Kapundung (Baccaurea racemosa (Reinw.) Mull. Arg.) | 23A
Karanda (Carissa carandas L.) | 23A
Kwai muk (Artocarpus hypargyreus Hance ex Benth.) | 23B
Lemon aspen (Acronychia acidula F. Muell) | 23A
Mangaba (Hancornia speciosa Gomes) | 23B
Marian plum (Bouea macrophylla Griff.) | 23B
Mombin, malayan (Spondias pinnata (J. Koenig ex L. f.) Kurz) | 23B
Mombin, purple (Spondias purpurea L.) | 23B
Mombin, yellow (Spondias mombin L.) | 23A
Monkeyfruit (Artocarpus lacucha Buch. Ham.) | 23B
Monos plum (Pseudanamomis umbellulifera (Kunth) Kausel) | 23A
Mountain cherry (Bunchosia cornifolia Kunth) | 23A
Nance (Byrsonima crassifolia (L.) Kunth) | 23B
Natal plum (Carissa macrocarpa (Eckl.) A. DC.) | 23B
Noni (Morinda citrifolia L.) | 23B
Olive (Olea europaea L. subsp. europaea) | 23A
Papaya, mountain (Vasconcellea pubescens A. DC.) | 23B
Patauá (Oenocarpus bataua Mart.) | 23C
Peach palm, fruit (Bactris gasipaes Kunth var. gasipaes) | 23C
Persimmon, black (Diospyros texana Scheele) | 23A
Persimmon, Japanese (Diospyros kaki Thunb.) | 23B
Pitomba (Eugenia luschnathiana Klotzsch ex O. Berg) | 23A
Plum-of-Martinique (Flacourtia inermis Roxb.) | 23A
Pomerac (Syzygium malaccense (L.) Merr. & L.M. Perry) | 23B
Rambai (Baccaurea motleyana (Mull. Arg.) Mull. Arg.) | 23B
Rose apple (Syzygium jambos (L.) Alston) | 23B
Rukam (Flacourtia rukam Zoll. & Moritizi) | 23A
Rumberry (Myrciaria dubia (Kunth) McVaugh Myrtaceae) | 23A
Sea grape (Coccoloba uvifera (L.) L.) | 23A
Sentul (Sandoricum koetjape (Burm. F.) Merr.) | 23B
Sete-capotes (Campomanesia guazumifolia (Cambess.) O. Berg) | 23A
Silver aspen (Acronychia wilcoxian (F. Muell.) T.G. Hartley) | 23A
Starfruit (Averrhoa carambola L.) | 23B
Surinam cherry (Eugenia uniflora L.) | 23B
Tamarind (Tamarindus indica L.) | 23B
Uvalha (Eugenia pyriformis Cambess ) | 23B
Water apple (Syzygium aqueum (Burm. F.) Alston) | 23A
Water pear (Syzygium guineense (Willd.) DC) | 23A
Water berry (Syzygium cordatum Hochst. Ex C. Krauss) | 23A
Wax jambu (Syzygium samarangense (Blume) Merr. & L.M. Perry) | 23A
Cultivars, varieties, and hybrids of these commodities

(iii) Table. The following Table 2 identifies the crop subgroups for Crop Group 23, specifies the representative commodities for each subgroup, and lists all the commodities included in each subgroup.

Table 2—Crop Group 23: Subgroup Listing
Representative commodities | Commodities
Crop Subgroup 23A. Tropical and Subtropical, Small fruit, edible peel subgroup
Olive | Acerola; African plum; agritos; almondette; appleberry; arbutus berry; bayberry, red; bignay; breadnut; cabeluda; carandas-plum; Ceylon iron wood; Ceylon olive; cherry-of-the-Rio-Grande; Chinese olive, black; Chinese olive, white; chirauli-nut; cocoplum; desert-date; false sandalwood; fragant manjack; gooseberry, abyssinian; gooseberry, Ceylon; gooseberry, otaheite; governor's plum; grumichama; guabiroba; guava berry; guava, Brazilian; guava, Costa Rican; guayabillo; illawarra plum; Indian-plum; Jamaica-cherry; jambolan; kaffir-plum; kakadu plum; kapundung; karanda; lemon aspen; mombin, yellow; monos plum; mountain cherry; olive; persimmon, black; pitomba; plum-of-Martinique; rukam; rumberry; sea grape; sete-capotes; silver aspen; water apple; water pear; water berry; wax jambu; cultivars, varieties, and hybrids of these commodities.
Crop Subgroup 23B. Tropical and Subtropical, Medium to large fruit, edible peel subgroup
Fig and guava | Achachairú; ambarella; arazá; babaco; bilimbi; borojó; cajou, fruit; cambucá; carob; cashew apple; ciruela verde; davidson's plum; feijoa; fig; gooseberry, Indian; guava; guava, cattley; guava, Para; guava, purple strawberry; guava, strawberry; guava, yellow strawberry; imbé; imbu; jaboticaba; jujube, Indian; kwai muk; mangaba; Marian plum; mombin, Malayan; mombin, purple; monkeyfruit; nance; natal plum; noni; papaya, mountain; persimmon, Japanese; pomerac; rambai; rose apple; sentul; starfruit; Surinam cherry; tamarind; uvalha; cultivars, varieties, and hybrids of these commodities.
Crop Subgroup 23C. Tropical and Subtropical, Palm fruit, edible peel subgroup
Date | Açaí; apak palm; bacaba palm; bacaba-de-leque; date; doum palm coconut; jelly palm; patauá; peach palm, fruit; cultivars, varieties, and hybrids of these commodities.

(33) Crop Group 24. Tropical and Subtropical Fruit, Inedible Peel Group.

(i) Representative commodities. Atemoya or sugar apple, avocado, banana or pomegranate, dragon fruit, lychee, passionfruit, pineapple, and prickly pear, fruit.

(ii) Commodities. The following Table 1 lists all commodities included in Crop Group 24.

Table 1—Crop Group 24: Tropical and Subtropical Fruit, Inedible Peel Group
Commodities | Related crop subgroups
Abiu (Pouteria caimito (Ruiz & Pav.) Radlk) | 24B
Aisen (Boscia senegalensis (Pers.) Lam.) | 24A
Akee apple (Blighia sapida K.D. Koenig) | 24B
Atemoya (Annona cherimola Mill. X A. squamosa L.) | 24C
Avocado (Persea americana Mill.) | 24B
Avocado, Guatemalan (Persea americana Mill. var. guatemalensis) | 24B
Avocado, Mexican (Persea americana Mill. var. drymifolia (Schltdl. & Cham.) S.F. Blak) | 24B
Avocado, West Indian (Persea americana var. americana) | 24B
Bacury (Platonia insignis Mart.) | 24B
Bael fruit (Aegle marmelos (L.) Corrêa) | 24A
Banana (Musa spp.) | 24B
Banana, dwarf (Musa hybrids; Musa acuminata Colla) | 24B
Binjai (Mangifera caesia Jack) | 24B
Biriba (Annona mucosa Jacq.) | 24C
Breadfruit (Artocarpus altilis (Parkinson) Fosberg) | 24C
Burmese grape (Baccaurea ramiflora Lour.) | 24A
Canistel (Pouteria campechiana (Kunth) Baehni) | 24B
Cat's-eyes (Dimocarpus longan Lour. subsp. malesianus Leenh.) | 24A
Champedak (Artocarpus integer (Thunb.) Merr.) | 24C
Cherimoya (Annona cherimola Mill.) | 24C
Cupuacú (Theobroma grandiflorum (Willd. Ex Spreng.) K. Schum.) | 24B
Custard apple (Annona reticulata L.) | 24C
Dragon fruit (Hylocereus undatus (Haw.) Britton & Rose) | 24D
Durian (Durio zibethinus L.) | 24C
Elephant-apple (Limonia acidissima L.) | 24C
Etambe (Mangifera zeylanica (Blume) Hook. F.) | 24B
Granadilla (Passiflora ligularis Juss.) | 24E
Granadilla, giant (Passiflora quadrangularis L.) | 24E
Ilama (Annona macroprophyllata Donn. Sm.) | 24C
Ingá (Inga vera Willd. subsp. affinis (DC.) T.D. Penn.) | 24A
Jackfruit (Artocarpus heterophyllus Lam.) | 24C
Jatobá (Hymenaea courbaril L.) | 24B
Karuka (Pandanus julianettii Martelli) | 24C
Kei apple (Dovyalis caffra (Hook. F. & Harv.) Warb.) | 24B
Langsat (Lansium domesticum Corrêa) | 24B
Lanjut (Mangifera lagenifera Griff.) | 24B
Longan (Dimocarpus longan Lour.) | 24A
Lucuma (Pouteria lucuma (Ruiz & Pav.) Kuntze) | 24B
Lychee (Litchi chinensis Sonn.) | 24A
Mabolo (Diospyros blancoi A. DC.) | 24B
Madras-thorn (Pithecellobium dulce (Roxb.) Benth.) | 24A
Mammy-apple (Mammea americana L.) | 24C
Manduro (Balanites maughamii Sprague) | 24A
Mango (Mangifera indica L.) | 24B
Mango, horse (Mangifera foetida Lour.) | 24B
Mango, Saipan (Mangifera odorata Griff.) | 24B
Mangosteen (Garcinia mangostana L. ) | 24B
Marang (Artocarpus odoratissimus Blanco) | 24C
Marmaladebox (Genipa americana L.) | 24C
Matisia (Matisia cordata Humb. & Bonpl.) | 24A
Mesquite (Prosopis juliflora (Sw.) DC.) | 24A
Mongongo, fruit (Schinziophyton rautanenii (Schinz) Radcl.-Sm) | 24A
Monkey-bread-tree (Adansonia digitata L.) | 24C
Monstera (Monstera deliciosa Liebm.) | 24E
Nicobar-breadfruit (Pandanus leram Jones ex Fontana) | 24C
Paho (Mangifera altissima Blanco) | 24B
Pandanus (Pandanus utilis Bory) | 24C
Papaya (Carica papaya L.) | 24B
Passionflower, winged-stem (Passiflora alata Curtis) | 24E
Passionfruit (Passiflora edulis Sims) | 24E
Passionfruit, banana (Passiflora tripartita var. mollissima (Kunth) Holm-Niels. & P. Jorg.) | 24E
Passionfruit, purple (Passiflora edulis Sims forma edulis) | 24E
Passionfruit, yellow (Passiflora edulis Sims forma flavicarpa O. Deg.) | 24E
Pawpaw, common (Asimina triloba (L.) Dunal) | 24B
Pawpaw, small-flower (Asimina parviflora (Michx.) Dunal) | 24A
Pelipisan (Mangifera casturi Kosterm.) | 24B
Pequi (Caryocar brasiliense Cambess) | 24B
Pequia (Caryocar villosum (Aubl.) Pers.) | 24B
Persimmon, American (Diospyros virginiana L.) | 24B
Pineapple (Ananas comosus (L.) Merr.) | 24C
Pitahaya (Hylocereus polyrhizus (F.A.C. Weber) Britton & Rose) | 24D
Pitaya (Hylocereus sp. including H. megalanthus (H. ocamponis and H. polychizus) | 24D
Pitaya, amarilla (Hylocereus triangularis Britton & Rose) | 24D
Pitaya, roja (Hylocereus ocamponis (Salm-Dyck) Britton & Rose) | 24D
Pitaya, yellow (Hylocereus megalanthus (K. Schum. ex Vaupel) Ralf Bauer) | 24D
Plantain (Musa paradisiaca L.) | 24B
Pomegranate (Punica granatum L.) | 24B
Poshte (Annona liebmanniana Baill.) | 24B
Prickly pear, fruit (Opuntia ficus-indica (L.) Mill.) | 24D
Prickly pear, Texas, fruit (Opuntia engelmannii Salm-Dyck ex Engelm. var. lindheimeri (Engelm.) B.D. Parfitt & Pinkav) | 24D
Pulasan (Nephelium ramboutan-ake (Labill.) Leenh.) | 24C
Quandong (Santalum acuminatum (R. Br.) DC.) | 24B
Rambutan (Nephelium lappaceum L.) | 24C
Saguaro (Carnegiea gigantea (Engelm.) Britton & Rose) | 24D
Sapodilla (Manilkara zapota (L.) P. Royen) | 24C
Sapote, black (Diospyros digyna Jacq.) | 24B
Sapote, green (Pouteria viridis (Pittier) Cronquist) | 24B
Sapote, mamey (Pouteria sapota (Jacq.) H.E. Moore & Stearn) | 24C
Sapote, white (Casimiroa edulis La Llave & Lex) | 24B
Sataw (Parkia speciosa Hassk.) | 24B
Satinleaf (Chrysophyllum oliviforme L.) | 24A
Screw-pine (Pandanus tectorius Parkinson) | 24B
Sierra Leone-tamarind (Dialium guineense Willd.) | 24A
Soncoya (Annona purpurea Moc. & Sessé ex Dunal) | 24C
Soursop (Annona muricata L.) | 24C
Spanish lime (Melicoccus bijugatus Jacq.) | 24A
Star apple (Chrysophyllum cainito L.) | 24B
Sugar apple (Annona squamosa L.) | 24C
Sun sapote (Licania platypus (Hemsl.) Fritsch) | 24C
Tamarind-of-the-Indies (Vangueria madagascariensis J.F. Gmel.) | 24B
Velvet tamarind (Dialium indum L.) | 24A
Wampi (Clausena lansium (Lour.) Skeels) | 24A
White star apple (Chrysophyllum albidum G. Don) | 24A
Wild loquat (Uapaca kirkiana Müll. Arg.) | 24B
Cultivars, varieties, and hybrids of these commodities

(iii) Table. The following Table 2 identifies the crop subgroups for Crop Group 24, specifies the representative commodities for each subgroup, and lists all the commodities included in each subgroup.

Table 2—Crop Group 24: Subgroup Listing
Representative commodities | Commodities
Crop Subgroup 24A. Tropical and Subtropical, Small fruit, inedible peel subgroup
Lychee | Aisen; bael fruit; Burmese grape; cat's-eyes; ingá; longan; lychee; madras-thorn; manduro; matisia; mesquite; mongongo, fruit; pawpaw, small-flower; satinleaf; Sierra Leone-tamarind; Spanish lime; velvet tamarind; wampi; white star apple; cultivars, varieties, and hybrids of these commodities.
Crop Subgroup 24B. Tropical and Subtropical, Medium to large fruit, smooth, inedible peel subgroup
Avocado, plus pomegranate or banana | Abiu; akee apple; avocado; avocado, Guatemalan; avocado, Mexican; avocado, West Indian; bacury; banana; banana, dwarf; binjai; canistel; cupuacú; etambe; jatobá; kei apple; langsat; lanjut; lucuma; mabolo; mango; mango, horse; mango, Saipan; mangosteen; paho; papaya; pawpaw, common; pelipisan; pequi; pequia; persimmon, American; plantain; pomegranate; poshte; quandong; sapote, black; sapote, green; sapote, white; sataw; screw-pine; star apple; tamarind-of-the-Indies; wild loquat; cultivars, varieties, and hybrids of these commodities.
Crop Subgroup 24C. Tropical and Subtropical, Medium to large fruit, rough or hairy, inedible peel subgroup
Pineapple, plus atemoya or sugar apple | Atemoya; biriba; breadfruit; champedak; cherimoya; custard apple; durian; elephant-apple; ilama; jackfruit; karuka; mammy-apple; marang; marmaladebox; monkey-bread tree; nicobar-breadfruit; pandanus; pineapple; pulasan; rambutan; sapodilla; sapote, mamey; soncoya; soursop; sugar apple; sun sapote; cultivars, varieties, and hybrids of these commodities.
Crop Subgroup 24D. Tropical and Subtropical, Cactus, inedible peel subgroup
Dragon fruit and Prickly pear fruit | Dragon fruit; pitahaya; pitaya; pitaya, amarilla; pitaya, roja; pitaya, yellow; prickly pear, fruit; prickly pear, Texas, fruit; saguaro; cultivars, varieties, and hybrids of these commodities.
Crop Subgroup 24E. Tropical and Subtropical, Vine, inedible peel subgroup
Passionfruit | Granadilla; granadilla, giant; monstera; passionflower, winged-stem; passionfruit; passionfruit, banana; passionfruit, purple; passionfruit, yellow; cultivars, varieties, and hybrids of these commodities.

[FR Doc. 2016-10319 Filed 5-2-16; 8:45 am]

BILLING CODE 6560-50-P